DEPARTMENT OF DEFENSE

Office of the Secretary

[Docket ID: DoD-2024-OS-0023]

Proposed Collection; Comment Request

AGENCY: Office of the Under Secretary of Defense for Personnel and Readiness (OUSD(P&R)), Department of Defense (DoD).

ACTION: 60-Day information collection notice.

SUMMARY: In compliance with the Paperwork Reduction Act of 1995, OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 17, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Deputy Assistant Secretary of Defense, Military Personnel Policy, Office of Financial Readiness, 1400 Defense Pentagon, Washington, DC 20301-1400, Tamara Moller, 703-697-9188/571-419-1650.

SUPPLEMENTARY INFORMATION:

Title; Associated Form; and OMB Number: FINRED Card Sorting User Testing of the Financial Readiness website; OMB Control Number 0704-CFRW.

Needs and Uses: The purpose of the FINRED Card Sorting User Testing of the Financial Readiness website (User Testing/Usability Study) is to provide key metrics to the Office of Financial Readiness to support DoD Instruction (DoDI) 1322.34 “Financial Readiness of Service Members”. The User Testing/Card Sorting Usability Study will provide results from the collection of opinions, ideas, and concerns from members of the military community on their level of satisfaction with the taxonomy and navigation of the FINRED website. Results will also provide a new taxonomy of the FINRED website, that will allow the Office of Financial Readiness to adjust the layout and organization of the website to meet the needs and layout of what the users intend to find when on the website. This study will be used only for research purposes and the results and recommendations will be anonymous when shared with government officials.

Affected Public: Individuals and Households.

Annual Burden Hours: 40.

Number of Respondents: 200.

Responses per Respondent: 1.

Annual Responses: 200.

Average Burden per Response: 12 minutes.

Frequency: Once.

Dated: March 12, 2024.
Aaron T. Siegel,
Alternate OSD Federal Register Liaison Officer, Department of Defense.

[FR Doc. 2024-05689 Filed 3-15-24; 8:45 am]

BILLING CODE 6001-FR-P